DEPARTMENT OF ENERGY

Federal Energy Regulatory Commission

[Docket No. CP04-408-000]

Transcontinental Gas Pipe Line Corporation; Notice of Application for Abandonment

October 6, 2004.

Take notice that on September 2, 2004 Transcontinental Gas Pipe Line Corporation (Transco), Post Office Box 1396, Houston, Texas, 77251, filed with the Federal Energy Regulatory Commission (FERC) an application under section 7(b) of the Natural Gas Act to abandon and amend for purposes of consolidation, in accordance with the provisions in section 22 of the General Terms and Conditions in its FERC Gas Tariff, certain service agreements under Transco's Rate Schedule GSS for Piedmont Natural Gas, Inc., as more fully described therein.

Transco's authorized contact person for this proceeding is Marg Camardello, Manager, Certificates and Tariffs, (713) 215-3380, P.O. Box 1396, Houston, Texas, 77251.

Any person desiring to intervene or to protest this filing must file in accordance with Rules 211 and 214 of the Commission's Rules of Practice and Procedure (18 CFR 385.211 and 385.214). Protests will be considered by the Commission in determining the appropriate action to be taken, but will not serve to make the protestants parties to the proceeding. Any person wishing to become a party must file a notice of intervention or a motion to intervene, as appropriate. Such notices, motions, or protests must be filed on or before the comment date. Anyone filing a motion to intervene or to protest must serve a copy of that document on the Applicant. On or before the comment date, it is not necessary to serve motions to intervene or protests on persons other than the Applicant.

The Commission encourages electronic submission of protests and interventions in lieu of paper using the eFiling link at http://www.ferc.gov. Persons unable to file electronically should submit an original and 14 copies of the protest or intervention to the Federal Energy Regulatory Commission, 888 First Street; NE., Washington, DC 20426.

This filing is accessible on-line at http://www.ferc gov, using the eLibrary link and is available for review in the Commission's Public Reference Room in Washington, DC. There is an eSubscription link on the Web site that enables subscribers to receive e-mail notification when a document is added to a subscribed docket(s). For assistance with any FERC Online service, please e-mail FERCOlineSupport@ferc.gov, or call (866) 208-3676, for TTY, call (202) 502-8659.

Comment Date: 5 p.m. Eastern Time on October 8, 2004.

Magalie R. Salas,
Secretary.

[FR Doc. E4-2609 Filed 10-14-04; 8:45 am]

BILLING CODE 6717-01-P